DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary (Office of Policy and Strategic Planning).

Title: Faith-Based and Community Initiatives Toolkit Web site Evaluation Survey.

Form Number(s): None.

OMB Control Number: None.

Type of Request: Regular submission.

Burden Hours: 33.

Number of Respondents: 400

Average Hours per Response: 5 minutes.

Needs and Uses: The U.S. Department of Commerce's (DOC) Center for Faith-Based and Community Initiatives (CFBCI) is one of eleven similar centers located in various Federal agencies. The Faith-Based and Community Initiative focuses on expanding partnerships with non-profit sector partners and soliciting private sector co-investors to help America's communities in need.

In an effort to support non-profit organizations with submitting quality government grant applications, the U.S. Census Bureau developed an online toolkit to assist applicants with obtaining Census information for grant writing and community needs assessment. Census is the leading source of quality data about our nation's people and economy. Census data drives key elements of grant applications and grant proposals are strengthened by good supportive data which demonstrates a need within a community.

DOC would like to conduct a study to evaluate the effectiveness of the Faith-Based and Community Initiatives toolkit Web site and, specifically the “Additional Resources” link.

The users of the Web site will have the option to complete a survey of their experience of using the Web site. The findings from the study will be used to help make informed decisions about users' expectations and needed improvements to the Web site.

Affected Public: Individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer,FAX number (202) 395-7285 or via the Internet at David_Rostker@omb.eop.gov.

Dated: May 1, 2008.
Gwellnar Banks,
Management Analyst, Office of the Chief Information Officer.

[FR Doc. E8-9934 Filed 5-5-08; 8:45 am]

BILLING CODE 3510-EC-P